ENVIRONMENTAL PROTECTION AGENCY

[EPA-HQ-ORD-2008-0200; FRL-8710-4]

Board of Scientific Counselors, Water Quality Mid-Cycle Subcommittee Meeting—2008

AGENCY: Environmental Protection Agency (EPA).

ACTION: Notice of Cancellation of Meeting.

SUMMARY: The Environmental Protection Agency, Office of Research and Development (ORD), announces the cancellation of a meeting of the Board of Scientific Counselors (BOSC) Water Quality Mid-Cycle Subcommittee. This meeting, a teleconference September 15, 2008, was announced in a Federal Register Notice published on Friday, August 15, 2008 (73 FR 47949). The purpose of this meeting was to prepare for the September 23 face-to-face meeting of the subcommittee. The proposed agenda topics will be covered during the September 4, 2008 meeting (telecon).

FOR FURTHER INFORMATION CONTACT: The Designated Federal Officer via mail at: Susan Peterson, Mail Code 8104-R, Office of Science Policy, Office of Research and Development, Environmental Protection Agency, 1200 Pennsylvania Avenue, NW., Washington, DC 20460; via phone/voice mail at: (202) 564-1077; via fax at: (202) 565-2911; or via e-mail at: peterson.susan@epa.gov.

Dated: August 26, 2008.
Fred Hauchman,
Director, Office of Science Policy.

[FR Doc. E8-20387 Filed 9-2-08; 8:45 am]

BILLING CODE 6560-50-P